DEPARTMENT OF THE TREASURY

Internal Revenue Service

26 CFR Part 1

[TD 8859]

RIN 1545-AV44

Compliance Monitoring and Miscellaneous Issues Relating to the Low-Income Housing Credit; Correction

AGENCY: Internal Revenue Service (IRS), Treasury.

ACTION: Correction to final regulations.

SUMMARY: This document contains corrections to final regulations which were published in the Federal Register on Friday, January 14, 2000 (65 FR 2323), affecting owners of low-income housing projects who claim the credit and the Agencies who administer the credit.

DATES: This correction is effective January 1, 2001.

FOR FURTHER INFORMATION CONTACT: Paul Handleman at (202) 622-3040 (not a toll-free number).

SUPPLEMENTARY INFORMATION:

Background

The final regulations that are the subject of these corrections relate to owners of low-income housing projects who claim the credit and the Agencies who administer the credit.

Need for Correction

As published, the final regulations (TD 8859) contain errors that are in need of clarification.

Correction of Publication

Accordingly, the publication of the final regulations (TD 8859), which were the subject of FR Doc. 00-111, is corrected as follows:

§ 1.42-5 [Corrected]

1. On page 2327, column 2, § 1.42-5(c)(1)(xi), line 14, the language “1437s” is corrected to read “1437f”.

§ 1.42-6 [Corrected]

2. On page 2328, column 1, Instructional Par. 3, paragraph 1, in line 4, the language “Report”” is corrected to read “Report,”” and in line 6, the language “Report' ” is corrected to read “Report,' ”.

Dale D. Goode,
Federal Register Liaison, Assistant Chief Counsel (Corporate).

[FR Doc. 00-5239 Filed 3-27-00; 8:45 am]

BILLING CODE 4830-01-P